FEDERAL MARITIME COMMISSION

Ocean Transportation Intermediary License Revocations

The Commission gives notice that the following Ocean Transportation Intermediary licenses have been revoked pursuant to section 19 of the Shipping Act of 1984 (46 U.S.C. 40101) effective on the date shown.

License No.: 13543N.

Name: Knight International Corporation.

Address: 1345 Woodline Road, East Hampton, NJ 08060.

Date Revoked: September 30, 2012.

Reason: Voluntary surrender of license.

License No.: 019372N.

Name: Action Brokerage Corp.

Address: 4477 NW 97th Avenue, Miami, FL 33178.

Date Revoked: September 24, 2012.

Reason: Voluntary surrender of license.

License No.: 023305NF.

Name: Wilson Transportation, Inc.

Address: 16226 Foster Street, Overland Park, KS 66085.

Date Revoked: September 25, 2012.

Reason: Voluntary surrender of license.

License No.: 023644N.

Name: Multimodal Container Consulting LLC dba World Maritime NVOCC.

Address: 2081 Raritan Road, Scotch Plains, NJ 07076-4711.

Date Revoked: September 24, 2012.

Reason: Voluntary surrender of license.

Vern W. Hill,
Director, Bureau of Certification and Licensing.

[FR Doc. 2012-25041 Filed 10-10-12; 8:45 am]

BILLING CODE 6730-01-P